DEPARTMENT OF THE TREASURY

Publication of Fiscal Year 2013 Service Contract Inventory

AGENCY: Departmental Offices, Treasury.

ACTION: Notice of publication of Fiscal Year 2013 Service Contract Inventory.

SUMMARY: The Department of the Treasury will make available to the public at http://www.treasury.gov/about/organizational-structure/offices/Pages/Office-of-the-Procurement-Executive.aspx (see Key Topics) the Department's Fiscal Year (FY) 2013 Service Contract Inventory. The Inventory lists all service contract actions over $25,000 awarded in FY 2013 and funded by Treasury, to include contract actions made on the Department's behalf by other agencies. Contract actions awarded by the Department on another agency's behalf with the other agency's funding are excluded.

FOR FURTHER INFORMATION CONTACT: Michele Sharpe, Office of the Procurement Executive, Department of the Treasury, 1500 Pennsylvania Avenue NW., Washington, DC 20220, at (202) 622-0248 or ootpe@do.treas.gov.

SUPPLEMENTARY INFORMATION: In accordance with Section 743 of Division C of the FY 2010 Consolidated Appropriations Act, Public Law (Pub. L.) 111-117, agencies required to submit an inventory in accordance with the Federal Activities Inventory Reform Act of 1998 (Pub. L. 105-270; 31 U.S.C. 501 note), other than the Department of the Defense, shall also prepare an annual service contract inventory. Treasury submitted its inventory for FY 2013 to the Office of Management and Budget (OMB) on December 20, 2013.

Dated: January 29, 2014.
Iris B. Cooper,
Senior Procurement Executive.

[FR Doc. 2014-02651 Filed 2-6-14; 8:45 am]

BILLING CODE P